ENVIRONMENTAL PROTECTION AGENCY

40 CFR Part 52

[EPA-R01-OAR-2023-0377; FRL-11783-02-R1]

Air Plan Approval; Connecticut; Source Monitoring, Record Keeping and Reporting

AGENCY: Environmental Protection Agency (EPA).

ACTION: Final rule.

SUMMARY: The Environmental Protection Agency (EPA) is approving a State Implementation Plan (SIP) revision submitted by the State of Connecticut. This revision addresses source monitoring in Connecticut. The principal revision is replacement of Regulations of Connecticut State Agencies (RCSA) section 22a-174-4 (source monitoring, record keeping and reporting) with a new regulation section 22a-174-4a, also called “source monitoring, record keeping and reporting,” in the Connecticut SIP. This source monitoring SIP revision provides monitoring, recordkeeping and reporting requirements to ensure that certain sources comply with applicable emissions limitations. This action is being taken in accordance with the Clean Air Act.

DATES: This rule is effective on August 7, 2024.

ADDRESSES: EPA has established a docket for this action under Docket Identification No. EPA-R01-OAR-2023-0377. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Alison C. Simcox, Air Quality Branch (AQB), Air and Radiation Division (ARD) (Mail Code 5-MD), U.S. Environmental Protection Agency, Region 1, 5 Post Office Square, Suite 100, Boston, Massachusetts 02109-3912, (617) 918-1684; simcox.alison@epa.gov.

SUPPLEMENTARY INFORMATION: Throughout this document whenever “we,” “us,” or “our” is used, we mean EPA.

Table of Contents

I. Background and Purpose

II. Response to Comments

III. Final Action

IV. Incorporation by Reference

V. Statutory and Executive Order Reviews

I. Background and Purpose

On February 29, 2024 (89 FR 14792), EPA published a notice of proposed rulemaking (NPRM) for the State of Connecticut.

The NPRM proposed approval of RCSA Section 22a-174-4a “Source monitoring, record keeping and reporting,” except for section 22a-174-4a(g)(6), as well as modifications to sections 22a-174-20(a)(12), 22a-174-22e(m)(1), and 22a-174-22e(m)(4) into the Connecticut SIP. In addition, the NPRM proposed to replace RCSA section 22a-174-4 with RCSA section 22a-174-4a in the Connecticut SIP.

The formal SIP revision was submitted by Connecticut on November 17, 2022. On December 19, 2022, CT DEEP submitted a supplement to this SIP revision that withdrew portions of the submitted regulatory text that are currently not part of the Connecticut SIP (sections 22a-174-3d(f)(1)(B), 22a-174-38(j)(1), and 22a-2a-1(b)(3)). On February 27, 2023, the State submitted a letter withdrawing one additional provision (section 22a-174-4a(g)(6)) of the submitted regulatory text in section 22a-174-4a. This letter also provided additional information about CT DEEP's implementation of “out-of-control” periods. Therefore, the complete SIP submittal included the November 17, 2022, submittal, as modified by the December 19, 2022, supplement and the February 27, 2023, letter.

CT DEEP's source monitoring SIP submittal strengthens its source monitoring requirements and, thus, the State's ability to detect violations of emission limits. Detailed rationale for EPA's proposed action is explained in the NPRM and will not be restated here.

II. Response to Comments

EPA received two comments during the comment period. One comment supported the EPA's proposed action. One comment discusses subjects outside the scope of this SIP action, does not explain (or provide a legal basis for) how the proposed action should differ in any way, and makes no specific mention of the proposed action. As such, the latter comment is not germane and does not require a further response to finalize the action as proposed.

III. Final Action

EPA is approving RCSA Section 22a-174-4a “Source monitoring, record keeping and reporting,” except for section 22a-174-4a(g)(6), as well as modifications to sections 22a-174-20(a)(12), 22a-174-22e(m)(1), and 22a-174-22e(m)(4) as a revision to the Connecticut SIP. In addition, we are replacing RCSA section 22a-174-4 with RCSA section 22a-174-4a in the Connecticut SIP.

IV. Incorporation by Reference

In this rule, the EPA is finalizing regulatory text that includes incorporation by reference. In accordance with requirements of 1 CFR 51.5, the EPA is finalizing the incorporation by reference of the RCSA Regulations, which address source monitoring in Connecticut, described in sections I. and III. of this preamble and as set forth in the amendments to 40 CFR part 52 below. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. See 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The Connecticut DEEP did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 6, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 27, 2024.
David Cash,
Regional Administrator, EPA Region 1.

PART 52—APPROVAL AND PROMULGATION OF IMPLEMENTATION PLANS

1. The authority citation for part 52 continues to read as follows:

Authority: 42 U.S.C. 7401 et seq.

Subpart H—Connecticut

2. Amend § 52.370 by adding paragraphs (c)(104)(i)(B)(4) and (c)(131) to read as follows:

§ 52.370 Identification of plan.

* * * * *

(c) * * *

(104) * * *

(i) * * *

(B) * * *

(4) Previously approved on July 16, 2014 in paragraph (c)(104)(B)(1) of this section and now deleted with replacement in paragraph (c)(131)(i)(A) of this section, as regulation 22a-174-4a.

* * * * *

(131) Revisions to the State Implementation Plan submitted by the Connecticut Department of Energy and Environmental Protection on November 17, 2022, and supplemented on December 19, 2022 and February 27, 2023.

(i) Incorporation by reference. (A) Regulations of Connecticut State Agencies Section 22a-174-4a, entitled “Source monitoring, record keeping, and reporting,” effective October 28, 2022.

(B) Regulations of Connecticut State Agencies Section 22a-174-20, entitled “Control of organic compound emissions,” specifically 22a-174-20(a)(12), amended by the State of Connecticut on October 28, 2022.

(C) Regulations of Connecticut State Agencies Section 22a-174-22e, entitled “Control of nitrogen oxides emissions from fuel-burning equipment at major stationary sources of nitrogen oxides,” specifically 22a-174-22e(m)(1) and (m)(4), amended by the State of Connecticut on October 28, 2022.

(ii) Additional materials. (A) Letter from the Connecticut Department of Energy and Environmental Protection dated November 17, 2022, submitting a revision to the Connecticut State Implementation Plan.

(B) Letter from the Connecticut Department of Energy and Environmental Protection dated December 19, 2022, supplementing a revision to the Connecticut State Implementation Plan.

(C) Letter from the Connecticut Department of Energy and Environmental Protection dated February 27, 2023, clarifying a revision to the Connecticut State Implementation Plan.

3. Amend § 52.385, in table 52.385, by:

a. Revising the second entry for “22a-174-4” before the entry for “22a-174-5”;

b. Adding an entry for “22a-174-4a” before the entry for “22a-174-5”;

c. Adding a sixth entry for “22a-174-20” before the entry for “22a-174-21”; and

d. Adding a fourth entry for “22a-174-22e” before the entry for “22a-174-22f”.

The revision and additions read as follows:

§ 52.385 EPA-approved Connecticut regulations.

* * * * *

Table 52.385—EPA-Approved Regulations
Connecticut State citation | Title/subject | Dates: Date adopted by State | Dates: Date approved by EPA | Federal Register citation | Section 52.370 | Comments/ description
* * * * * * *
22a-174-4 | Source monitoring, record keeping, and reporting | 4/1/2004 | 7/16/2014 | 79 FR 41427 | (c)(104) | Replaced by 22a-174-4a, see (c)(131).
22a-174-4a | Source monitoring, record keeping, and reporting | 10/28/2022 | 7/8/2024 | [Insert Federal Register citation] | (c)(131) | Replaces 22a-174-4.
* * * * * * *
22a-174-20 | Control of organic compound emissions | 10/28/2022 | 7/8/2024 | [Insert Federal Register citation] | (c)(131) | Amends 22a-174-20(a)(12).
* * * * * * *
22a-174-22e | Control of nitrogen oxides emissions from fuel-burning equipment at major stationary sources of nitrogen oxides | 10/28/2022 | 7/8/2024 | [Insert Federal Register citation] | (c)(131) | Amends 22a-174-2e(m)(1) and (m)(4).
* * * * * * *

[FR Doc. 2024-14620 Filed 7-5-24; 8:45 am]

BILLING CODE 6560-50-P